INTERNATIONAL TRADE COMMISSION

[Investigation No. 337-TA-448]

Certain Oscillating Sprinklers, Sprinkler Components, and Nozzles; Notice of Commission Determination Not To Review an Initial Determination Terminating the Investigation as to One Respondent on the Basis of a Settlement Agreement

AGENCY: International Trade Commission.

ACTION: Notice.

SUMMARY: Notice is hereby given that the U.S. International Trade Commission has determined not to review an initial determination (“ID”) of the presiding administrative law judge (“ALJ”) in the above-captioned investigation terminating the investigation as to respondent Rain Bird Manufacturing Corporation (“Rain Bird”) on the basis of a settlement agreement reached between complainant L.R. Nelson Corp. (“Nelson”) and Rain Bird.

FOR FURTHER INFORMATION CONTACT: Laurent de Winter, Esq., Office of the General Counsel, U.S. International Trade Commission, 500 E Street, SW., Washington, DC 20436, telephone 202-708-5452. General information concerning the Commission may also be obtained by accessing its Internet server (http://www.usitc.gov). The public record for this investigation may be viewed on the Commission's electronic docket (EDIS-ON-Line) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930 in the importation and sale of certain oscillating sprinklers, sprinkler components, and nozzles, on February 9, 2001. 66 FR 9721. On June 26, 2001, Nelson moved, pursuant to 19 U.S.C. 1337(c) and Commission rule 210.21(a), to terminate the investigation with respect to Rain Bird, asserting that it had reached a settlement agreement with Rain Bird regarding the alleged infringement of the patent in controversy, U.S. Letters Patent 6,036,117.

On July 9, 2001, the presiding ALJ issued an ID (Order No. 11) terminating the investigation as to Rain Bird on the basis of the settlement agreement.

This action is taken under the authority of section 337 of the Tariff Act of 1930, as amended (19 U.S.C. 1337), and Commission rule 210.42 (19 CFR 210.42).

Copies of the nonconfidential version of the ID and all other nonconfidential documents filed in connection with this investigation are available for inspection during official business hours (8:45 a.m. to 5:15 p.m.) in the Office of the Secretary, U.S. International Trade Commission, 500 E Street, SW., Washington, DC 20436, telephone 202-205-2000.

Issued: July 31, 2001.
By order of the Commission.
Donna R. Koehnke,
Secretary.

[FR Doc. 01-19592 Filed 8-3-01; 8:45 am]

BILLING CODE 7020-02-P